ENVIRONMENTAL PROTECTION AGENCY

[FRL-9195-3]

Issuance of NPDES General Permits for Wastewater Lagoon Systems Located in Indian Country in Colorado, Montana, North Dakota, South Dakota, Utah and Wyoming

AGENCY: Environmental Protection Agency (EPA).

ACTION: Notice of issuance of NPDES general permits.

SUMMARY: EPA Region 8 is hereby giving notice of its reissuance of five National Pollutant Discharge Elimination System (NPDES) general permits for wastewater lagoon systems that are located in Indian country in the States of Montana, North Dakota, South Dakota, Utah and Wyoming and the issuance of the NPDES general permit for wastewater lagoon systems that are located in Indian country in the State of Colorado and that are treating primarily domestic wastewater. The general permits are grouped geographically by State, with the permit coverage being for specified Indian reservations in the State; any land held in trust by the United States for an Indian Tribe; and any other areas which are Indian country within the meaning of 18 U.S.C. 1151. The permits for the States of MT, ND, SD, UT, and WY are being reissued and replace permits that were issued in 2004. Those permits expired August 16, 2009, and have been administratively extended. The permit for the State of Colorado is being issued for the first time. The effective date of these general permits is September 14, 2010.

The NPDES permit number and the area covered by that general permit are listed below by State:

Colorado: COG589### This permit covers the Southern Ute Reservation and the Ute Mountain Reservation, including those portions of the Ute Mountain Reservation located in New Mexico and Utah; any land within the State of Colorado held in trust by the United States for an Indian Tribe; and any other areas within the State of Colorado which are Indian country within the meaning of 18 U.S.C. 1151.

Montana: MTG589### This permit covers the Blackfeet Indian Reservation of Montana; the Crow Indian Reservation; the Flathead Reservation; the Fort Belknap Reservation of Montana; the Fort Peck Indian Reservation; the Northern Cheyenne Indian Reservation; the Rocky Boy's Reservation; any land within the State of Montana held in trust by the United States for an Indian Tribe; and any other areas within the State of Montana which are Indian country within the meaning of 18 U.S.C. 1151.

North Dakota: NDG589### This permit covers the Fort Berthold Reservation; the Spirit Lake Indian Reservation; the Standing Rock Sioux Reservation; the Turtle Mountain Reservation; any land within the State of North Dakota held in trust by the United States for an Indian Tribe; and any other areas within the State of North Dakota which are Indian country within the meaning of 18 U.S.C. 1151.

This permit includes that portion of the Standing Rock Sioux Reservation and associated Indian country located within the State of South Dakota. It does not include any land held in trust by the United States for the Sisseton-Wahpeton Oyate of the Lake Traverse Reservation or any other Indian country associated with that Tribe, which is covered under general permit SDG589###.

South Dakota: SDG589### This permit covers the Cheyenne River Reservation; Crow Creek Reservation; the Flandreau Santee Sioux Indian Reservation; the Lower Brule Reservation; the Pine Ridge Reservation (including the entire Reservation, which is located in both South Dakota and Nebraska); the Rosebud Indian Reservation; the Yankton Sioux Reservation; any land within the State of South Dakota held in trust by the United States for an Indian Tribe; and any other areas within the State of South Dakota which are Indian country within the meaning of 18 U.S.C. 1151.

This permit includes any land in the State of North Dakota that is held in trust by the United States for the Sisseton-Wahpeton Oyate of the Lake Traverse Reservation or any other Indian country associated with that Tribe. It does not include the Standing Rock Sioux Reservation or any associated Indian country, which is covered under general permit NDG589###.

Utah: UTG589### This permit covers the Northwestern Band of Shoshoni Nation of Utah Reservation (Washakie); the Paiute Indian Tribe of Utah Reservation; the Skull Valley Indian Reservation; Indian country lands within the Uintah and Ouray Indian Reservation; any land within the State of Utah held in trust by the United States for an Indian Tribe; and any other areas within the State of Utah which are Indian country within the meaning of 18 U.S.C. 1151, except as provided in the following paragraph.

It does not include any portions of the Navajo Nation, the Goshute Reservation, the Ute Mountain reservation in Utah, or any land held in trust by the United States for an Indian Tribe that is associated with those Reservations, or any other areas which are Indian country within the meaning of 18 U.S.C. 1151 that are associated with those Reservations.

Wyoming: WYG589### This permit covers the Wind River Reservation; any land within the State of Wyoming held in trust by the United States for an Indian Tribe; and any other areas within the State of Wyoming which are Indian country within the meaning of 18 U.S.C. 1151.

DATES: The general permits become effective on September 14, 2010 and will expire five years from that date. For appeal purposes, the 120 day time period for appeal to the U.S. Federal Courts will begin September 14, 2010.

ADDRESSES: The administrative record is available by appointment for review and copying at the EPA Region 8 offices during the hours of 10 a.m. to 4 p.m. Monday through Friday, Federal holidays excluded. To make an appointment to look at or copy the documents call Donna Roberts at 303-312-6371 or Colleen Gillespie at 303-312-6133. The Region 8 offices are located at 1595 Wynkoop Street, Denver, CO 80202-1129. A reasonable fee may be charged for copying.

FOR FURTHER INFORMATION CONTACT: Additional information concerning the final permits may be obtained from Colleen Gillespie, EPA Region 8, Wastewater Unit (8P-W-WW), 1595 Wynkoop Street, Denver, CO 80202-1129, telephone 303-312-6133 or e-mail at gillespie.colleen@epa.gov. The final general permits, the fact sheet, Response to Comments, and additional information may be downloaded from the EPA Region 8 Web page at http://www.epa.gov/region8/water/wastewater/download. Please allow one week after date of this publication for items to be uploaded to the Web page. Copies of a specific general permit, the fact sheet, and/or Response to Comments may also be obtained by writing Donna Roberts at the above address or telephone 303-312-6371.

SUPPLEMENTARY INFORMATION: Proposed reissuance of the general permits was published in the Federal Register on July 24, 2009, 74 FR 36705. The public comment period closed on August 24, 2009. A summary of each comment received and Region 8's response to the comments are given in a separate document, “Response to Comments Received During the 2009 Public Notice of Draft NPDES General Permits for Wastewater Lagoon Systems Located in Colorado, Montana, North Dakota, South Dakota, Utah and Wyoming.

The use of wastewater lagoon systems is the most common method of treating municipal wastewater in Indian country in Region 8. Wastewater lagoon systems are also used to treat domestic wastewater from isolated housing developments, schools, camps, missions, and similar sources of domestic wastewater that are not connected to a municipal sanitary sewer system and do not use septic tank systems. Region 8 wants to continue using general permits instead of individual permits for permitting the discharges from such facilities in order to reduce the Region's administrative burden of issuing separate individual permits. The administrative burden for the regulated sources is expected to be about the same under the general permits as with individual permits, but it will be much quicker to obtain permit coverage with general permits than with individual permits. The discharge requirements would essentially be the same with an individual permit or under the general permit.

Coverage under the general permits will be limited to those wastewater lagoon systems that meet the following criteria:

1. The wastewater lagoon system is located in Indian country in EPA Region 8;

2. The wastewater lagoon system treats primarily domestic wastewater; and

3. The wastewater lagoon system is:

a. A facility listed in Appendix A of the fact sheet; or

b. A facility not listed in Appendix A that meets the requirements specified in Part 5 of the general permit for complete retention wastewater lagoon systems.

If facilities that do not meet the criteria above seek coverage under this general permit, EPA will notify the facility that it must apply for an individual permit. The eligibility criteria above are more restrictive than those in the draft general permit that was publicly noticed on July 24, 2009.

Lagoon systems covered under the general permit will include the following three categories: (1) Lagoons where no prior notification is required before starting to discharge; (2) lagoons where prior notification is required before starting to discharge; and (3) lagoons that are required to have no discharge. The effluent limitations for lagoons coming under categories 1 and 2 are based on the Federal Secondary Treatment Regulation (40 CFR Part 133) and best professional judgement (BPJ). There are provisions in the general permits for adjusting the effluent limitations on total suspended solids (TSS) and pH in accordance with the provisions of the Secondary Treatment Regulation. If more stringent and/or additional effluent limitations are necessary to comply with applicable water quality standards, those limitations may be imposed by written notification to the permittee. Lagoon systems under category 3 are required to have no discharge except in accordance with the bypass provisions of the permit. Self-monitoring requirements and routine inspection requirements are included in the permits. The permits do not authorize the discharge of wastewater from land application sites, but they do require that the land application of wastewater from the lagoon systems be done in accordance with a written operational plan for the land application of the wastewater. The objectives of the operational plan are to minimize the potential for the discharge of wastewater from the land application site and to avoid applying excessive amounts of nitrogen to the land application site.

With the exception of the Flathead Reservation, the Fort Peck Indian Reservation, the Northern Cheyenne Indian Reservation, and the Ute Mountain Reservation, where the Tribes have Clean Water Act section 401(a)(1) certification authority, EPA will certify that the permits comply with the applicable provisions of the Clean Water Act as long as the permittees comply with all permit conditions. Certifications were received for the Flathead Reservation and the Northern Cheyenne Indian Reservation. No responses were received for the requests for certification for the Fort Peck Indian Reservation and the Ute Mountain Reservation and the 60-day response period has expired. Therefore EPA considers certification as being waived for those reservations in accordance with the provisions of 40 CFR 124.53(c)(3).

Other Legal Requirements

Economic Impact (Executive Order 12866): EPA has determined that the issuance of this general permit is not a “significant regulatory action” under the terms of Executive Order 12866 (58 FR 51735 (October 4, 1993)) and is therefore not subject to formal OMB review prior to proposal.

Paperwork Reduction Act: EPA has reviewed the requirements imposed on regulated facilities in these proposed general permits under the Paperwork Reduction Act of 1980, 44 U.S.C. 501, et seq. The information collection requirements of these permits have already been approved by the Office of Management and Budget in submissions made for the NPDES permit program under the provisions of the Clean Water Act.

Regulatory Flexibility Act (RFA), 5 U.S.C 601, et seq., as amended by the Small Business Regulatory Enforcement Fairness Act (SBREFA): The RFA requires that EPA prepare a regulatory flexibility analysis for rules subject to the requirements of 5 U.S.C. 553(b) that have a significant impact on a substantial number of small entities. The permit proposed today, however, is not a “rule” subject to the requirements of 5 U.S.C. 553(b) and is therefore not subject to the RFA.

Unfunded Mandates Reform Act: Section 201 of the Unfunded Mandates Reform Act (UMRA), Public Law 104-4, generally requires Federal agencies to assess the effects of their “regulatory actions” defined to be the same as “rules” subject to the RFA) on Tribal, State, local governments and the private sector. The permit proposed today, however, is not a “rule” subject to the RFA and is therefore not subject to the requirements of the UMRA.

Authority: Clean Water Act, 33 U.S.C. 1251, et seq.

Dated: August 24, 2010.
Stephen S. Tuber,
Assistant Regional Administrator, Office of Partnerships and Regulatory Assistance.

[FR Doc. 2010-21675 Filed 8-30-10; 8:45 am]

BILLING CODE 6560-50-P